MORRIS K. UDALL AND STEWART L. UDALL FOUNDATION

Sunshine Act Meetings

TIME AND DATE: Electronic meeting of the Board of Trustees to be held via telephone, 10:00 a.m. to 12:00 p.m. (PST-Pacific Standard Time), Wednesday, February 10, 2016.

PLACE: Board of Trustees Meeting held via telephone.

STATUS: This special meeting of the Board of Trustees, to be held Electronically (in accordance with the Operating Procedures of the Udall Foundation's Board of Trustees), will be open to the public, unless it is necessary for the Board to consider items in executive session. Members of the public who would like to participate in the open session of this special meeting of the Board of Trustees should email Stephanie Zimmt-Mack, General Counsel, Morris K. Udall and Stewart L. Udall Foundation, at zimmt-mack@udall.gov.

MATTERS TO BE CONSIDERED: (1) Officers of the Board and (2) Internal Personnel Matters.

PORTIONS OPEN TO THE PUBLIC: All agenda items except as noted below.

PORTIONS CLOSED TO THE PUBLIC: Executive Session to Discuss Internal Personnel Matters.

CONTACT PERSON FOR MORE INFORMATION: Stephanie Zimmt-Mack, General Counsel, 130 South Scott Avenue, Tucson, AZ 85701, (520) 901-8500.

Dated: January 15, 2016.
Elizabeth E. Monroe,
Executive Assistant, Morris K. Udall and Stewart L. Udall Foundation, and Federal Register Liaison Officer.

[FR Doc. 2016-01333 Filed 1-20-16; 11:15 am]

BILLING CODE 6820-FN-P